DEPARTMENT OF ENERGY

Federal Energy Regulatory Commission

[Docket No. RP97-288-030]

Transwestern Pipeline Company; Notice of Refund Report

April 15, 2003.

Take notice that on April 9, 2003, Transwestern Pipeline Company (Transwestern) tendered for filing a compliance refund report.

Transwestern states that it filed a stipulation and agreement (Settlement) in the above referenced dockets resolving all issues pending in these proceedings. Transwestern further explains that the Federal Energy Regulatory Commission (Commission) issued a letter order dated January 31, 2003 (Order) accepting the Settlement as fair and reasonable and in the public interest. Transwestern states that the Order directed Transwestern to make refunds consistent with the Settlement, and to file with the Commission a compliance refund report within thirty days of making such refund.

Transwestern states that it made the refunds to shippers in accordance with the Settlement on March 14, 2003, and that it is filing the compliance refund report pursuant to the Commission's January 31 order.

Any person desiring to protest said filing should file a protest with the Federal Energy Regulatory Commission, 888 First Street, NE., Washington, DC 20426, in accordance with section 385.211 of the Commission's rules and regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 22, 2003.

Magalie R. Salas,
Secretary.

[FR Doc. 03-9819 Filed 4-21-03; 8:45 am]

BILLING CODE 6717-01-P